DEPARTMENT OF HEALTH AND HUMAN SERVICES

Administration for Children and Families

Submission for OMB Review; Assessing the Implementation and Cost of High-Quality Early Care and Education: Field Test, OMB 0970-0499

AGENCY: Office of Planning, Research, and Evaluation, Administration for Children and Families, HHS.

ACTION: Request for public comment.

SUMMARY: The Administration for Children and Families (ACF) at the U.S. Department of Health and Human Services (HHS) seeks approval to collect new information to use in testing measures of the implementation and costs of high-quality early care and education as part of the project, Assessing the Implementation and Cost of High-Quality Early Care and Education (ECE-ICHQ). The study received approval for a field test to validate and improve the psychometric properties of these measures in November 2019. This request is to add a measure to the approved field test to help further assess the associations between measures of implementation, cost, and quality.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or using the search function.

SUPPLEMENTARY INFORMATION:

Description: ACF seeks approval to collect new information to use in testing measures of the implementation and costs of high-quality early care and education as part of the ECE-ICHQ project. The project's goal is to create a technically sound and feasible instrument that will provide consistent, systematic measures of the implementation and costs of education and care in center-based settings that serve children from birth to age 5. The resulting measures will inform research, policy, and practice by improving understanding of variations in what centers do to support quality, their associated costs, and how resources for ECE may be better aligned with expectations for quality. The study received approval for a field test to validate and improve the psychometric properties of these measures in November 2019. For all previously approved materials for this study, see https://www.reginfo.gov/public/do/PRAOMBHistory?ombControlNumber=0970-0499. This request is to add a measure to the approved field test to help further assess the associations between measures of implementation, cost, and quality. The field test and this additional measure will include only remote data collection.

Respondents: Teachers and aids.

Annual Burden Estimates
Instrument | Number of respondents (total over request period) | Number of responses per respondent (total over request period) | Avg. burden per response (in hours) | Total/annual burden (in hours)
Center re-engagement call and roster update for teaching staff survey | 80 | 1 | .50 | 40
Teaching staff survey | 1,120 | 1 | .50 | 560

Estimated Total Annual Burden Hours: 600.

Authority: § 658O(a)(5) as amended by the CCDBG Act of 2014 § 9.

Mary B. Jones,
ACF/OPRE Certifying Officer.

[FR Doc. 2021-14148 Filed 7-1-21; 8:45 am]

BILLING CODE 4184-24-P